DEPARTMENT OF HEALTH AND HUMAN SERVICES

Centers for Disease Control and Prevention

[60Day-02-05]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Tailoring Occupational Safety and Health Messages to Individual Health Construals—NEW—The National Institute for Occupational Safety and Health (NIOSH), Centers for Disease Control and Prevention (CDC). The mission of the National Institute for Occupational Safety and Health is to promote safety and health at work for all people through research and prevention.

The overall goal of the current project is to examine the effectiveness of tailoring NIOSH web-based communications to the psychological characteristics of the individuals who receive the communications. Typically, NIOSH publications informing at-risk workers about health hazards and safety recommendations are distributed by mail using a printed format. However, the growing use of computers opens the door to a new format for distributing health and safety information to workers: Communication of health information via the Web. Importantly, web-based communication makes it possible to tailor health information to particular users. Past research has demonstrated that health-related behavior may be construed positively by an individual, in terms of wellness, or negatively, in terms in illness. The current project tests the effectiveness of message tailoring on this dimension.

This project will examine the effectiveness of tailoring a web communication based on the NIOSH document “Stress* * *At Work” (and additional occupational stress research) to users' personal construals of this issue in terms of wellness or illness. Health care workers, specifically nurses, have been selected as the target audience to receive these tailored messages on occupational stress as they frequently experience multiple, chronic, occupationally related stressors. One important source of occupational stress among nurses has been the move from the traditional inpatient, fee-for-service model to the outpatient, managed care model. The sweeping nature of this organizational change has dramatically altered the working conditions for an estimated 10 million healthcare workers in the United States and has left many healthcare workers, including nurses, without a sense of connection between their professional expectations and the goals of their organizations. Chronic occupational stress of this sort can lead to increased levels of depression among affected workers. Consequently, it is estimated that healthcare workers suffer from rates of depression 2-3 times higher than the general population. The corrosive effects of chronic stress can also leave workers more vulnerable to incidents of acute stress. This is particularly important among healthcare workers, as research indicates that they are increasingly being exposed to incidents of violence and trauma on the job. As a result, healthcare workers have a significantly increased risk of developing posttraumatic stress disorder. Given the many occupationally related stress risk factors experienced by healthcare workers, the development of effective occupational stress interventions for health care workers is of the utmost importance. Therefore, this study will investigate ways to increase the effectiveness of occupational stress interventions targeted at nurses, the single largest healthcare worker group.

Through the use of message tailoring, the proposed project aims to increase health care workers' adherence to recommendations suggested by NIOSH to prevent and reduce the effects of occupational stress. In study 1, attitudinal predictors of occupational stress prevention/reduction behaviors will be assessed for registered nurses who view this issue as a wellness (health maintenance) issue versus an illness prevention issue. This data will be obtained from a sample of 500 registered nurses who will be asked to complete a mail survey assessing their attitudes and behaviors with regard to preventing and reducing workplace stress. In a second study, a web-based “occupational stress” document will be adapted from the NIOSH document “Stress* * * at Work “ Two formats of this web-based document will be created that are tailored to nurses who construe the issue of workplace stress as a wellness issue, or as an illness issue. The impact of tailoring the message format to the nurse's construal of the issue of occupational stress will be examined in a laboratory setting where 300 participants will indicate whether they construe this issue in terms of maintaining wellness (positively) or in terms of illness prevention (negatively), and will then be randomly assigned to gain or loss frame web communications. The impact of the tailored messages on participants' attitudes and behavioral intentions with regard to occupational stress prevention and reduction will be assessed.

The results of this project should provide NIOSH with information about how to develop effective Web-based communication strategies using message tailoring. This should have the consequence of enhancing occupational safety and health attitudes and behaviors among at-risk workers.

Respondents | Number of respondents | Number of responses/respondent | Avg. burden per response (in hours) | Total burden (in hours)
Nurses (Data collection #1) | 500 | 1 | 20/60 | 167
Nurses (Data Collection #2):
Survey 1 | 300 | 1 | 30/60 | 150
Follow-up | 300 | 1 | 5/60 | 25
Total |  |  |  | 342

Dated: October 25, 2001.
Nancy E. Cheal,
Acting Associate Director for Policy, Planning and Evaluation, Centers for Disease Control and Prevention.

[FR Doc. 01-27528 Filed 11-1-01; 8:45 am]

BILLING CODE 4163-18-P